NATIONAL SCIENCE FOUNDATION

Committee on Equal Opportunities in Science and Engineering; Notice of Meeting

In accordance with the Federal Advisory Committee Act (Pub. L. 92-463, as amended), the National Science Foundation (NSF) announces the following meeting:

Name: Committee on Equal Opportunities in Science and Engineering (CEOSE) Advisory Committee Meeting (# 1173).

Dates/Time: February 9, 2017, 1:00 p.m.-5:30 p.m.; February 10, 2017, 8:30 a.m.-3:30 p.m.

Place: National Science Foundation, 4201 Wilson Boulevard, Arlington, VA 22230.

To help facilitate your entry into the building, please contact Vickie Fung (vfung@nsf.gov) on or prior to February 7, 2017.

Type of Meeting: Open.

Contact Person: Dr. Bernice Anderson, Senior Advisor and CEOSE Executive Secretary, Office of Integrative Activities (OIA), National Science Foundation, 4201 Wilson Boulevard, Arlington, VA 22230. Contact Information: 703-292-8040/banderso@nsf.gov.

Minutes: Meeting minutes and other information may be obtained from the CEOSE Executive Secretary at the above address or the Web site at: http://www.nsf.gov/od/oia/activities/ceose/index.jsp.

Purpose of Meeting: To study data, programs, policies, and other information pertinent to the National Science Foundation and to provide advice and recommendations concerning broadening participation in science and engineering.

Agenda:

• Opening Statement by the CEOSE Chair

• NSF Executive Liaison Report

• Presentation: NSF Big Idea—INCLUDES (Inclusion across the Nation of Communities of Learners of Underrepresented Discoverers in Engineering and Science)

• Presentation: NSF Big Idea—Navigating the New Arctic

• Working Sessions: Accountability Workshop/Workshop Report/2015-2016 CEOSE Biennial Report

• Discussion: Future Plans for CEOSE

• Discussion: CEOSE Liaisons and Federal Liaisons Reports

• Meeting with NSF Director

Dated: January 10, 2017.
Crystal Robinson,
Committee Management Officer.

[FR Doc. 2017-00705 Filed 1-12-17; 8:45 am]

BILLING CODE 7555-01-P